DEPARTMENT OF HEALTH AND HUMAN SERVICES

Centers for Medicare & Medicaid Services

42 CFR Parts 422 and 489

[CMS-4024-CN]

RIN 0938-AK48

Medicare Program; Improvements to the Medicare+Choice Appeal and Grievance Procedures; Correction

AGENCY: Centers for Medicare & Medicaid Services (CMS), HHS.

ACTION: Correction of final rule with comment period.

SUMMARY: This document corrects technical errors that appeared in the final rule with comment period published in the Federal Register on April 4, 2003, entitled “Medicare Program; Improvements to the Medicare+Choice Appeal and Grievance Procedures.”

EFFECTIVE DATE: This correction notice is effective May 5, 2003.

FOR FURTHER INFORMATION CONTACT: Anthony Culotta, (410) 786-4661.

SUPPLEMENTARY INFORMATION:

I. Background

In FR Doc. 03-8204 of April 4, 2003 (68 FR 16652-16669), there were a number of technical errors that are identified and corrected in the Correction of Errors section below. The provisions in this correction notice are effective as if they had been included in the document published April 4, 2003. Accordingly, the corrections are effective May 5, 2003.

The corrections clarify the effective date of several provisions of the final rule, and delete the reference to a provision mistakenly cited in the preamble. Further detail regarding these corrections is provided in the Correction of Errors section.

II. Correction of Errors

In FR Doc. 03-8204 of April 4, 2003 (68 FR 16652-16669), we make the following corrections:

1. On page 16652, in the first column; in the second paragraph, we revise the DATES section to read: Effective date: This final rule with comment period is effective May 5, 2003. However, new information collection requirements associated with the notices described in § 422.620, § 422.624, and § 422.626 are subject to the Paperwork Reduction Act (PRA) and thus will not take effect until approval is obtained from the Office of Management and Budget. We will publish the effective dates of these new requirements in the Federal Register after these notices have been approved through the PRA process.

2. On page 16662, in the third column; in the section entitled, IV. Provisions of This Final Rule with Comment Period, in the second paragraph, we are deleting the bulleted entry that reads—New § 422.502(i)(3)(iv) specifies that M+C organization contracts with providers and other related entities entered into after (the effective date of this rule) must contain a provision specifying that these entities will comply with the applicable notice and appeal provisions in §§ 422.620, 422.624, and 422.626.

III. Waiver of Proposed Rulemaking

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

We find it unnecessary to undertake notice and comment rulemaking because this notice merely provides technical corrections to the regulations. Therefore, we find good cause to waive notice and comment procedures.

(Catalog of Federal Domestic Assistance Program No. 93.773, Medicare—Hospital Insurance; and Program No. 93.774, Medicare—Supplementary Medical Insurance Program)
Dated: April 18, 2003.
Ann Agnew,
Executive Secretary to the Department.

[FR Doc. 03-10160 Filed 4-24-03; 8:45 am]

BILLING CODE 4120-01-P